DEPARTMENT OF DEFENSE

Department of the Army, Corps of Engineers

Intent To Prepare a Draft Environmental Impact Statement (DEIS) for the Proposed King Cove to Cold Bay Transportation Access Project Located in the Aleutians East Borough, Near the Terminus of the Alaska Peninsula, Alaska

AGENCY: U.S. Army Corps of Engineers, DoD.

ACTION: Notice of Intent.

SUMMARY: The Alaska District, U.S. Army Corps of Engineers (Corps), intends to prepare a Draft Environmental Impact Statement (DEIS) to address the potential impacts associated with the construction of the proposed King Cove to Cold Bay Transportation Access Project to be located between King Cove, Alaska and Cold Bay, Alaska. The Corps will be evaluating a permit application for the work under the authority of Section 10 of the Rivers and Harbors Act and Section 404 of the Clean Water Act. The EIS will be used as a basis for the permit decision and to ensure compliance with the National Environmental Policy Act (NEPA).

FOR FURTHER INFORMATION CONTACT: Questions about the proposed action and the DEIS should be addressed to Ms. Kathleen Kuná, Regulatory Branch, phone (907) 753-2712, in Alaska 1-800-478-2712, Fax (907) 753-5567, U.S. Army Corps of Engineers, CO-R, Post Office Box 898, Anchorage, Alaska 99506-0898.

SUPPLEMENTARY INFORMATION: 1. The permit applicant is proposing to construct a year-round transportation system between the cities of King Cove and Cold Bay, Alaska. The route would include the construction of a 17.9 mile one lane gravel all-weather road and a marine hovercraft link to transport people and supplies across Cold Bay. This action would involve the placement of fill material in both wetlands and waters of the US for the construction of the road and the hovercraft terminal and ramps. Funds for the proposed project were allocated by Congress in the Fiscal Year 1999 Omnibus Appropriations Act.

2. The proposed road and hovercraft terminal is located on lands owned by the King Cove Village Corporation. A section of the road and the terminal are sited within the boundaries of the Izembek National Wildlife Refuge on Section 22(g) Native owned lands.

3. Additional alternatives to the applicant's proposal include the following: alternate hovercraft terminal sites; two ferryboat alternatives with various harbor locations within Cold Bay; a ferry or smaller heavy weather capable boat out of Lenard Harbor or King Cove; upgrading the existing King Cove airport; development of a new jet or general aviation airport and the use of a helicopter service. In addition, there are three variations of an overland route: the Native Lands road which would be located on King Cove Corporation lands and would use an elevated road and bridges to cross the mouth of Kinzarof Lagoon; a road and railroad combination using the Native Lands route; and the Isthmus road which would follow the same route as the Native Lands road until it reached the head of the bay, then would go behind Kinzarof Lagoon through the Izembek National Wildlife Refuge and Wilderness to connect with existing roads and trails. All overland alternatives must cross AK Peninsula Refuge lands at the northwest corner of Cold Bay. This list of alternatives is preliminary and contains suggestions from many individuals and organizations. Some may be dropped and others added through the scoping process. Certain alternative proposals conflict with existing laws. The selected alternatives will be further analyzed as part of the EIS process.

4. Scoping: a. The Corps invites full public participation to promote open communication on the issues surrounding the proposal. All Federal, State, local agencies, and other persons or organizations that have an interest are urged to participate in the NEPA scoping process. Public meetings will be held to receive public input on the purpose and need of the project, to identify significant issues and to discuss proposed alternatives. The scoping process will help to further explain the purpose and need plus the alternatives to be reviewed in the DEIS.

b. The DEIS will analyze the potential social, economic, and environmental impacts to the local area and the Izembek National Wildlife Refuge resulting from the proposed project. The following major issues will be analyzed in depth in the DEIS: transportation systems; essential fish habitat and other marine mammal habitat; threatened and endangered species including their critical habitat; migratory birds including the threatened Steller's eider, Emperor goose and Pacific brant; resident and migratory mammals; impacts to the wilderness area; cultural resources; alternatives; secondary and cumulative impacts; and socioeconomics.

c. The Corps will serve as the lead Federal agency in the preparation of the DEIS. The U.S. Fish and Wildlife Service (FWS) is participating as a cooperating agency.

d. Some of these alternatives may require additional federal approvals such as a compatibility determination from the FWS.

5. The scoping meetings are tentatively planned for the following dates and locations. Specific dates will be further announced by local media. Further information about these public meetings will be published locally and can be obtained by contacting the Corps office.

Anchorage, Alaska—April 2, 2001

Sand Point, Alaska—April 3, 2001

Cold Bay, Alaska—April 4, 2001

King Cove, Alaska—April 5, 2001

6. It is anticipated that the DEIS will be made available for public review in fall 2001.

Larry L. Reeder,
Branch Chief, Regulatory Branch.

[FR Doc. 01-3847 Filed 2-15-01; 8:45 am]

BILLING CODE 3710-NL-P